DEPARTMENT OF HOMELAND SECURITY

Federal Emergency Management Agency

[Docket ID: FEMA-2018-0012; OMB No. 1660—NEW]

Agency Information Collection Activities: Submission for OMB Review; Comment Request; National Catastrophic Resource Catalog

AGENCY: Federal Emergency Management Agency, DHS.

ACTION: Notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before October 5, 2018.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Information Management Division, 500 C Street SW, Washington, DC 20472, email address FEMA-Information-Collections-Management@fema.dhs.gov or Thomas Murray, Fire Program Specialist, FEMA, U.S. Fire Administration, (301) 447-1588, Thomas.murray2@fema.dhs.gov.

SUPPLEMENTARY INFORMATION: This proposed information collection previously published in the Federal Register on March 29, 2018 at 83 FR 13496 with a 60 day public comment period. FEMA received 4 anonymous public comments that were not relevant to the information collection. Additionally, FEMA noticed that the previously-published proposed collection incorrectly contained the term “ESF-4” in the Abstract section; accordingly, the term “ESF-4” has been removed from the Abstract section. The purpose of this notice is to notify the public that FEMA will submit the information collection abstracted below to the Office of Management and Budget for review and clearance.

Collection of Information

Title: National Catastrophic Resource Catalog.

Type of Information Collection: New information collection.

OMB Number: 1660-NEW.

Form Titles and Numbers: FEMA Form 035-0-1, National Catastrophic Resource Catalog.

Abstract: This information collection will help USFA meet the firefighting resource requirements before/during a national catastrophic disaster response, such as an earthquake, hurricane, or terroristic act. USFA will pre-identify those specialized resources that may be available to support a disaster response. This collection will be solicited from the nation's fire and emergency services on a voluntary basis to establish a catalog/database of potential resources that could be mobilized to support a national catastrophic disaster response.

Affected Public: Not-for-profit institutions; State, Local or Tribal Governments.

Estimated Number of Respondents: 3,947.

Estimated Number of Responses: 3,947.

Estimated Total Annual Burden Hours: 439.

Estimated Total Annual Respondent Cost: $23,728.94.

Estimated Respondents' Operation and Maintenance Costs: $0.

Estimated Respondents' Capital and Start-Up Costs: $0.

Estimated Total Annual Cost to the Federal Government: $85,824.49.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Rachel Frier,
Records Management Branch Chief, Office of the Chief Administrative Officer, Mission Support, Federal Emergency Management Agency, Department of Homeland Security.

[FR Doc. 2018-19143 Filed 9-4-18; 8:45 am]

BILLING CODE 9111-45-P